DEPARTMENT OF LABOR

Employment and Training Administration

[TA-W-71,174]

General Electric Company Transportation Division; Erie, PA; Notice of Negative Determination on Reconsideration

By application dated October 28, 2009, the petitioners requested administrative reconsideration of the Department's negative determination regarding eligibility to apply for Trade Adjustment Assistance (TAA) applicable to workers and former workers of General Electric Company, Transportation Division, Erie, Pennsylvania. The Department's Notice of Affirmative Determination Regarding Application for Reconsideration was signed on November 16, 2009, and published in the Federal Register on December 8, 2009 (74 FR 64712).

The investigation resulted in a negative determination based on the finding that workers' separations or threat of separations were not related to an increase in imports or shift/acquisition of production of locomotives, locomotive parts, marine and stationary engines, and various propulsion systems to/from a foreign country. The subject firm did not import locomotives, locomotive parts, marine and stationary engines, and various propulsion systems and did not shift production of these articles abroad.

In the request for reconsideration the petitioner alleged that General Electric operates facilities in Brazil, China and Kazakhstan, and that General Electric has been shifting production and “employment levels” from the subject firm offshore “in order to produce locomotives in country for specific customers.”

The Department contacted an official of General Electric to address the above allegations. The company official confirmed that General Electric has several manufacturing facilities abroad, which were established to supply new markets of those countries because of the localization requirements as well as to satisfy the demand of new markets. The company official further stated that there was no shift in production from the Erie facility to any foreign country during the relevant period. The official also confirmed that the layoffs at the subject firm were due to volume reductions in the U.S. market and that there was no employment increase at General Electric foreign facilities during the relevant period.

To support their allegations, the petitioners attached several newspaper articles citing company's expansion plans into the emerging markets. The articles do not imply that General Electric is planning or is in process of shifting production from the Erie, Pennsylvania facility abroad. Rather the articles confirm the statements made by the company official and describe the growth of General Electric on a global scale, its ability to sustain competition via advanced technology and innovation, and outline company's successful penetration into the new markets through joint ventures.

The petitioners further alleged that General Electric imports like or directly competitive articles into the United States.

According to the data collected from General Electric during the initial investigation, the subject firm did report imports of locomotives and like or directly competitive articles with products manufactured at the subject firm. However, the data analysis illustrates that imports have decreased during the period under investigation.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After reconsideration, I affirm the original notice of negative determination of eligibility to apply for worker adjustment assistance for workers and former workers of General Electric Company, Transportation Division, Erie, Pennsylvania.

Signed at Washington, DC, this 22nd day of January 2010.
Elliott S. Kushner,
Certifying Officer, Division of Trade Adjustment Assistance.

[FR Doc. 2010-1889 Filed 1-29-10; 8:45 am]

BILLING CODE 4510-FN-P